COMMITTEE FOR PURCHASE FROM PEOPLE WHO ARE BLIND OR SEVERELY DISABLED

Procurement List; Proposed Additions and Deletions

AGENCY: Committee for Purchase from People Who Are Blind or Severely Disabled.

ACTION: Proposed additions to and deletions from Procurement List.

SUMMARY: The Committee is proposing to add to the Procurement List services to be furnished by nonprofit agencies employing persons who are blind or have other severe disabilities, and to delete services previously furnished by such agencies.

DATES: Comments must be received on or before: April 24, 2005.

ADDRESSES: Committee for Purchase From People Who Are Blind or Severely Disabled, Jefferson Plaza 2, Suite 10800, 1421 Jefferson Davis Highway, Arlington, Virginia, 22202-3259.

FOR FURTHER INFORMATION OR TO SUBMIT COMMENTS CONTACT: Sheryl D. Kennerly, telephone: (703) 603-7740, Fax: (703) 603-0655, or e-mail SKennerly@jwod.gov.

SUPPLEMENTARY INFORMATION: This notice is published pursuant to 41 U.S.C 47(a) (2) and 41 CFR 51-2.3. Its purpose is to provide interested persons an opportunity to submit comments on the proposed actions.

Additions

If the Committee approves the proposed additions, the entities of the Federal Government identified in this notice for each product or service will be required to procure the services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the services to the Government.

2. If approved, the action will result in authorizing small entities to furnish the services to the Government.

3. There are no known regulatory alternatives which would accomplish the objectives of the Javits-Wagner-O'Day Act (41 U.S.C. 46-48c) in connection with the services proposed for addition to the Procurement List. Comments on this certification are invited. Commenters should identify the statement(s) underlying the certification on which they are providing additional information.

End of Certification

The following services are proposed for addition to Procurement List for production by the nonprofit agencies listed:

Services

Service Type/Location: Custodial Services, Transportation Security Administration, Pittsburgh International Airport, Pittsburgh, Pennsylvania.

NPA: ARC—Allegheny, Pittsburgh, Pennsylvania.

Contracting Activity: GSA, PBS—Pittsburgh, Region 3, Pittsburgh, Pennsylvania.

Service Type/Location: Custodial Services, Williams Gateway Airport, 6416 Sossamon Road, Mesa, Arizona.

NPA: Goodwill Community Services, Inc., Phoenix, Arizona.

Contracting Activity: Department of Homeland Security, Laguna Niguel, California.

Service Type/Location: Dormitory Management Services, Department of Homeland Security, Federal Law Enforcement Training Center, Artesia Facility, Artesia, New Mexico.

NPA: Adelante Development Center, Inc., Albuquerque, New Mexico.

Contracting Activity: Department of Homeland Security (FLETC), Artesia, New Mexico.

Service Type/Location: Grounds Maintenance, Fort Worden Cemetery, Fort Worden State Park, Port Townsend, Washington.

NPA: Skookum Educational Programs, Port Townsend, Washington.

Contracting Activity: Army-Fort Lewis, Fort Lewis, Washington.

Service Type/Location: Janitorial/Custodial, U.S. Customs Service, 700 Maritime Street, Oakland, California.

NPA: The Independent Way, Oakland, California.

Contracting Activity: Department of Homeland Security, Laguna Niguel, California.

Deletions

Regulatory Flexibility Act Certification

I certify that the following action will not have a significant impact on a substantial number of small entities. The major factors considered for this certification were:

1. If approved, the action may result in additional reporting, recordkeeping or other compliance requirements for small entities.

2. If approved, the action may result in authorizing small entities to furnish the services to the Government.

3. There are no known regulatory alternatives which would accomplish the objectives of the Javits-Wagner-O'Day Act (41 U.S.C. 46-48c) in connection with the services proposed for deletion from the Procurement List.

End of Certification

The following services are proposed for deletion from the Procurement List:

Services

Service Type/Location: Janitorial/Custodial, U.S. Army Reserve Center, New Orleans, New Orleans, Louisiana.

NPA: Goodworks, Inc., New Orleans, Louisiana.

Contracting Activity: Department of the Army.

Service Type/Location: Mailroom Operation, New Orleans Strategic Petroleum Reserve (SPR) Site, New Orleans, Louisiana.

NPA: Goodworks, Inc., New Orleans, Louisiana.

Contracting Activity: DnyMcDermott Petroleum Operation Company.

Patrick Rowe,
Deputy Executive Director.

[FR Doc. 05-5961 Filed 3-24-05; 8:45 am]

BILLING CODE 6353-01-P